DEPARTMENT OF COMMERCE

International Trade Administration

[A-533-922]

2,4-Dichlorophenoxyacetic Acid From India: Final Affirmative Determination of Sales at Less Than Fair Value

AGENCY: Enforcement and Compliance, International Trade Administration, Department of Commerce.

SUMMARY: The U.S. Department of Commerce (Commerce) determines that 2,4-dichlorophenoxyacetic acid (2,4-D) from India is being, or is likely to be, sold in the United States at less than fair value (LTFV). The period of investigation is January 1, 2023, through December 31, 2023.

DATES: Applicable April 7, 2025.

FOR FURTHER INFORMATION CONTACT: Grant Fuller, AD/CVD Operations, Office IX, Enforcement and Compliance, International Trade Administration, U.S. Department of Commerce, 1401 Constitution Avenue NW, Washington, DC 20230; telephone: (202) 482-6228.

SUPPLEMENTARY INFORMATION:

Background

On November 14, 2024, Commerce published the Preliminary Determination in the Federal Register and invited interested parties to comment.¹ For a complete description of the events that occurred since the Preliminary Determination, see the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See 2,4-Dichlorophenoxyacetic Acid from India: Preliminary Affirmative Determination of Sales at Less Than Fair Value, Postponement of Final Determination, and Extension of Provisional Measures, 89 FR 89949 (November 14, 2024) (Preliminary Determination), and accompanying Preliminary Decision Memorandum.

² See Memorandum, “Issues and Decision Memorandum for the Final Affirmative Determination in the Less-Than-Fair-Value Investigation of 2,4-Dichlorophenoxyacetic Acid from India,” dated concurrently with, and hereby adopted by, this notice (Issues and Decision Memorandum).

Scope of the Investigation

The product covered by this investigation is 2,4-D from India. For a complete description of the scope of this investigation, see Appendix I.

Scope Comments

We received no comments from interested parties on the scope of the investigation as it appeared in the Preliminary Determination.³ Therefore, we made no changes to the scope of the investigation from that published in the Preliminary Determination for the Final Determination.

³ See Preliminary Determination, 89 FR at 89952.

Verification

As provided in section 782(i) of the Tariff Act of 1930, as amended (the Act), Commerce conducted verifications of the sales and cost information submitted by Atul Limited (Atul), its U.S. affiliate, Atul USA Inc. (Atul USA), and Meghmani Organics Limited (MOL). We used standard verification procedures, including an examination of relevant sales and accounting records, and original source documents provided by Atul, Atul USA, and MOL.⁴

⁴ See Memoranda, “Verification of the Sales Response of Atul USA Inc.,” dated January 28, 2025; “Verification of the Sales Response of Meghmani Organics Limited,” dated February 4, 2025; “Verification of the Cost Response of Atul Limited,” dated February 5, 2025; “Verification of the Cost Response of Meghmani Organics Limited,” dated February 21, 2025; and “Verification of the Sales Response of Atul Limited,” dated February 21, 2025.

Analysis of Comments Received

All issues raised in the case and rebuttal briefs submitted by interested parties in this investigation are addressed in the Issues and Decision Memorandum. A list of the issues addressed in the Issues and Decision Memorandum is attached to this notice as Appendix II.

Changes Since the Preliminary Determination

Based on our review and analysis of the information received during verification and comments received from interested parties, we made certain changes to the estimated weighted-average dumping margins for Atul and MOL. For a discussion of these changes, see the Issues and Decision Memorandum.

All-Others Rate

Section 735(c)(5)(A) of the Act provides that Commerce shall determine an estimated all-others rate for all exporters and producers not individually examined. This rate shall be an amount equal to the weighted average of the estimated weighted-average dumping margins established for exporters and producers individually investigated, excluding any zero and de minimis margins, and any margins determined entirely under section 776 of the Act.

In this investigation, Commerce calculated estimated weighted-average dumping margins for Atul and MOL that are not zero, de minimis, or based entirely on facts otherwise available. Accordingly, Commerce calculated the all-others rate using a simple average of the estimated weighted-average dumping margins calculated for the examined respondents.⁵

⁵ With two respondents under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly-ranged U.S. sales values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. As complete publicly-ranged sales data were available, Commerce based the all-others rate on the public ranged sales data of the mandatory respondents. For a complete analysis of the data, see Memorandum, “Calculation of the All-Others Rate for the Final Determination,” dated March 31, 2025.

Final Determination

Commerce determines that the final estimated weighted-average dumping margins exist for the period, January 1, 2023, through December 31, 2023:

Exporter/producer | Weighted-average dumping margin (percent) | Cash deposit rate (adjusted for subsidy offsets) (percent)
Atul Limited | 25.85 | 20.62
Meghmani Organics Limited | 6.10 | 3.18
All Others | 15.98 | 11.90

Disclosure

Commerce intends to disclose the calculations performed in connection with this final determination to interested parties within five days of any public announcement or, if there is no public announcement, within five days of the date of publication of this notice in the Federal Register, in accordance with 19 CFR 351.224(b).

Continuation of Suspension of Liquidation

In accordance with section 735(c)(1)(B) of the Act, Commerce will instruct U.S. Customs and Border Protection (CBP) to continue to suspend liquidation of all entries of subject merchandise, as described in Appendix I of this notice, which were entered, or withdrawn from warehouse, for consumption, on or after November 14, 2024, the date of publication of the Preliminary Determination of this investigation in the Federal Register. These suspension of liquidation instructions will remain in effect until further notice.

Pursuant to section 735(c)(1)(B)(ii) of the Act and 19 CFR 351.210(d), upon the publication of this notice, we will instruct CBP to require a cash deposit for estimated antidumping duties for such entries as follows: (1) the cash deposit rate for the respondents listed in the table above will be equal to the company-specific estimated weighted-average dumping margin determined in this final determination; (2) if the exporter is not a respondent listed in the table above, but the producer is, then the cash deposit rate will be equal to the company-specific estimated weighted-average dumping margin listed for the producer of the subject merchandise; and (3) the cash deposit rate for all other producers and exporters will be equal to the all-others estimated weighted-average dumping margin listed in the table above. These suspension of liquidation instructions will remain in effect until further notice.

To determine the cash deposit rate, Commerce normally adjusts the estimated weighted average dumping margin by the amount of export subsidies countervailed in a companion countervailing duty (CVD) proceeding, when CVD provisional measures are in effect. Accordingly, where Commerce has made a final affirmative determination for countervailable export subsidies, Commerce offsets the estimated weighted-average dumping margin by the appropriate CVD rate. Commerce has continued to adjust the cash deposit rate for export subsidies in the companion CVD investigation by the appropriate export subsidy rate as indicated in the above chart. However, suspension of liquidation of provisional measures in the companion CVD case has been discontinued; ⁶ therefore, we are not instructing CBP to collect cash deposits based on the adjusted estimated weighted-average dumping margin for those export subsidies at this time.

⁶ See 2,4-Dichlorophenoxyacetic Acid from India: Preliminary Affirmative Countervailing Duty Determination and Alignment of Final Determination With Final Antidumping Duty Determination, 89 FR 74908 (September 13, 2024); see also section 703(d) of the Act, which states that the provisional measures may not be in effect for more than four months, which in the companion CVD case is 120 days after the publication of the preliminary determination, January 11, 2025 (i.e., last day provisional measures were in effect).

U.S. International Trade Commission (ITC) Notification

In accordance with section 735(d) of the Act, Commerce will notify the ITC of its final affirmative determination of sales at LTFV. Because Commerce's final determination is affirmative, in accordance with section 735(b)(2) of the Act, the ITC will determine, within 45 days, whether the domestic industry in the United States is materially injured, or threatened with material injury, by reason of imports of 2,4-D. If the ITC determines that material injury or threat of material injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice will serve as the only reminder to parties subject to an APO of their responsibility concerning the disposition of proprietary information disclosed under APO, in accordance with 19 CFR 351.305(a)(3). Timely written notification of the return or destruction of APO materials or conversion to judicial protective order is hereby requested. Failure to comply with the regulations and terms of an APO is a sanctionable violation.

Notification to Interested Parties

This determination is issued and published in accordance with sections 735(d) and 777(i)(1) of the Act and 19 CFR 351.210(c).

Dated: March 31, 2025.
Christopher Abbott,
Deputy Assistant Secretary for Policy and Negotiations, performing the non-exclusive functions and duties of the Assistant Secretary for Enforcement and Compliance.

Appendix I

Scope of the Investigation

The merchandise covered by this investigation is 2,4-dichlorophenoxyacetic acid (2,4-D) and its derivative products, including salt and ester forms of 2,4-D. 2,4-D has the Chemical Abstracts Service (CAS) registry number of 94-75-7 and the chemical formula C8H6Cl2O3.

Salt and ester forms of 2,4-D include 2,4-D sodium salt (CAS 2702-72-9), 2,4-D diethanolamine salt (CAS 5742-19-8), 2,4-D dimethyl amine salt (CAS 2008-39-1), 2,4-D isopropylamine salt (CAS 5742-17-6), 2,4-D tri-isopropanolamine salt (CAS 3234180-3), 2,4-D choline salt (CAS 1048373-72-3), 2,4-D butoxyethyl ester (CAS 1929-733), 2,4-D 2-ethylhexylester (CAS 1928-43-4), and 2,4-D isopropylester (CAS 94-11-1). All 2,4-D, as well as the salt and ester forms of 2,4-D, is covered by the scope irrespective of purity, particle size, or physical form.

The conversion of a 2,4-D salt or ester from 2,4-D acid, or the formulation of nonsubject merchandise with the subject 2,4-D, its salts, and its esters in the country of manufacture or in a third country does not remove the subject 2,4-D, its salts, or its esters from the scope. For any such formulations, only the 2,4-D, 2,4-D salt, and 2,4-D ester components of the mixture is covered by the scope of the investigation. Formulations of 2,4-D are products that are registered for end-use applications with the Environmental Protection Agency and contain a dispersion agent.

The country of origin of any 2,4-D derivative salt or ester is determined by the country in which the underlying 2,4-D acid is produced. 2,4-D, its salts, and its esters are classified under Harmonized Tariff Schedule of the United States (HTSUS) subheading 2918.99.2010. Subject merchandise, including the abovementioned formulations, may also be classified under HTSUS subheadings 2922.12.0001, 2921.11.0000, 2921.19.6195, 2922.19.9690, 3808.93.0500, and 3808.93.1500. The HTSUS subheadings and CAS registry numbers are provided for convenience and customs purposes. The written description of the scope of the investigation is dispositive.

Appendix II

List of Topics Discussed in the Issues and Decision Memorandum

I. Summary

II. Background

III. Changes Since the Preliminary Determination

IV. Discussion of the Issues

Comment 1: Whether to Correct the Dry Acid Equivalent Conversion Rate for Atul and MOL for a Product

Comment 2: Whether to Apply Adverse Facts Available (AFA) to Atul and MOL for Failure to Provide the Cost of Production (COP) for a Major Input

Comment 3: Whether to Apply AFA to Atul

Comment 4: Whether to Use Dry Acid Equivalent Conversions in the Calculations for Atul

Comment 5: Whether to Base Normal Value (NV) on Constructed Value (CV) for Atul

Comment 6: Whether to Use Atul's Indirect Selling Expenses Reported on a Channel-Specific Basis

Comment 7: Whether to Use Atul's Packing Expenses Including Overhead

Comment 8: Whether to Use a Borrowing Rate from the Bank of India to Calculate Atul's Credit Expenses in U.S. Dollars

Comment 9: Whether Atul Correctly Reported the Costs of its Inputs

Comment 10: Whether to Disallow a Shutdown Adjustment for Atul

Comment 11: Whether to Deny MOL's Reported Home Market Warehousing Expenses

Comment 12: Whether to Deny MOL's Reported Home Market Discounts

Comment 13: Whether Certain of MOL's Home Market Sales Were Indian-Origin Merchandise

V. Recommendation

[FR Doc. 2025-05888 Filed 4-4-25; 8:45 am]

BILLING CODE 3510-DS-P